DEPARTMENT OF THE INTERIOR

Fish and Wildlife Service

[FWS-R4-R-2008-N0245; 40136-1265-0000-S3]

Mattamuskeet National Wildlife Refuge, Hyde County, NC

AGENCY: Fish and Wildlife Service, Department of the Interior.

ACTION: Notice of availability: Final comprehensive conservation plan and finding of no significant impact.

SUMMARY: We, the Fish and Wildlife Service (Service), announce the availability of our final comprehensive conservation plan (CCP) and finding of no significant impact (FONSI) for Mattamuskeet National Wildlife Refuge (NWR). In the final CCP, we describe how we will manage this refuge for the next 15 years.

ADDRESSES: A copy of the CCP may be obtained by writing to: Mr. Bruce Freske, Refuge Manager, Mattamuskeet NWR, 38 Mattamuskeet Road, Swan Quarter, NC 27885. The CCP may also be accessed and downloaded from the Service's Internet site: http://southeast.fws.gov/planning.

FOR FURTHER INFORMATION CONTACT: Mr. Bruce Freske, Refuge Manager, Mattamuskeet NWR; Telephone: 252/926-4021; fax: 252/926-1743; e-mail: bruce_freske@fws.gov.

SUPPLEMENTARY INFORMATION:

Introduction

With this notice, we finalize the CCP process for Mattamuskeet NWR. We started this process through a notice in the Federal Register on February 7, 2001 (66 FR 9353). For more about the process, see that notice.

Mattamuskeet NWR was established in 1934, and conserves 50,180 acres of habitats around Lake Mattamuskeet, including the lake itself. At 40,000 acres, Lake Mattamuskeet is North Carolina's largest natural lake. The refuge supports significant wintering populations of ducks, Canada geese, snow geese, and tundra swans. Concentrations of bald eagles and other raptors, wading birds, and shorebirds occur seasonally. Significant fishery resources including largemouth bass, sunfish (bream), white perch, crappie, alewives (herring), and blue crabs are associated with Lake Mattamuskeet and canals. Habitats consist of open water (40,000 acres), freshwater marsh (3,640 acres), forested wetlands (3,503 acres), managed wetlands or impoundments (2,600 acres), croplands (400 acres), and forested uplands/administrative lands (37 acres).

Popular recreation uses at Mattamuskeet NWR include hunting, sport fishing, and wildlife observation and photography. Quota hunting for white-tailed deer and waterfowl is allowed on portions of the refuge. The Service selects hunters through a random drawing of applicants for deer and resident goose hunting. The State of North Carolina receives application requests for waterfowl hunting on the refuge through their special hunts program. Hunting for white-tailed deer and resident Canada geese is primarily conducted to control population levels.

Mattamuskeet NWR receives 18,000 anglers annually. Most people fish along canal banks, bridges, or the Highway 94 Causeway. Boaters mostly use the lake in the spring and fall when water depths in the shallow lake are generally the highest. Boat fishermen generally seek largemouth and striped bass, while bank fishermen mostly seek catfish, white perch, and crappie. Crappie fishing is especially popular in the spring when spawning fish move into the deeper canals attached to the lake.

During the fall and winter, concentrations of Canada geese, tundra swans, and ducks of many species delight both wildlife observers and photographers. The formerly threatened bald eagle may also be observed during the fall, winter, and early spring. During the summer months, many species of songbirds and marsh birds are a common sight. Occasionally, broods of black and wood ducks can be observed in the canals and around the lake's edge. Osprey, wood duck, and bald eagle nests are occasionally visible. Year-round residents include the white-tailed deer, marsh and cottontail rabbits, gray squirrels, and many other mammals, as well as amphibians and reptiles. Species less observed are the bobcat and river otter. The black bear population in northeastern North Carolina is one of the largest on the east coast and lucky visitors to the refuge occasionally glimpse a wild bear.

We announce our decision and the availability of the final CCP and FONSI for Mattamuskeet NWR in accordance with the National Environmental Policy Act (NEPA) (40 CFR 1506.6(b)) requirements. We completed a thorough analysis of impacts on the human environment, which we included in the draft comprehensive conservation plan and environmental assessment (Draft CCP/EA).

The CCP will guide us in managing and administering Mattamuskeet NWR for the next 15 years. Alternative B, as we described, is the foundation for the CCP.

The compatibility determinations for (1) Animal control; (2) bicycling, jogging, walking, walking dogs, horseback riding; (3) boating—power boats; (4) boating—non-motorized; (5) dredge or fill; (6) environmental education and interpretation; (7) farming; (8) fishing—recreational and tournament; (9) fishing—guided; (10) hunting—big game; (11) hunting—waterfowl; (12) photography; (13) photography—commercial; (14) small public gatherings; (15) research; (16) tree harvest—firewood—other; and (17) wildlife observation—guiding or outfitting, are also available in the CCP.

Background

The National Wildlife Refuge System Improvement Act of 1997 (16 U.S.C. 668dd-668ee) (Improvement Act), which amended the National Wildlife Refuge System Administration Act of 1966, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act.

Comments

Approximately 150 copies of the Draft CCP/EA were made available for a 30-day public review period as announced in the Federal Register on July 18, 2008 (73 FR 41371). Nineteen written comments were received from private citizens, four North Carolina state agencies, and the Hyde County Chamber of Commerce. Members of the public were broadly supportive of the proposed plan, although several commented that they would have preferred Alternative C, which would have expanded management, programs, visitor services, and public use even more than the alternative selected by the Service.

The four state agencies that commented were the North Carolina Office of Geospatial and Technology Management; Aquifer Protection Section, Washington Regional Office, North Carolina Department of Environment and Natural Resources; North Carolina Department of Environment and Natural Resources; and North Carolina Division of Coastal Management. Representatives of the North Carolina Wildlife Resources Commission participated in preparing the CCP but did not provide written comments on the Draft CCP/EA.

Selected Alternative

After considering the comments we received, we have selected Alternative B for implementation. This choice is reflected in the CCP. While each of the alternatives offered benefits for wildlife, habitat, and public use, Alternative B was more ambitious than Alternative A and more feasible and realistic than Alternative C.

Alternative B provides an effective management action to meet the purposes of Mattamuskeet NWR by optimizing habitat management and visitor services. This long-term management plan enhances or slightly expands various aspects of current management. For wintering waterfowl, objectives for tundra swan and northern pintail are the same, but the Canada goose objective is 5,000 higher and the duck objective is 40,000 to 60,000 higher than current management. The CCP replicates most elements and expands upon other aspects of current fisheries management.

The CCP also expands upon current management of raptors, passerine birds, shorebirds, marsh and wading birds, mammals, and reptiles and amphibians. It re-initiates nest counts of ospreys, ground surveys for marsh and wading birds, and implements passerine point counts. Furthermore, the refuge will evaluate alternative management strategies for moist-soil units as to their benefit for spring and fall migration of shorebirds.

The CCP expands on current management's habitat objectives. It investigates the desirability and feasibility of restoring Salyer's Ridge pinewoods and considers new management options for the Conservation Reserve Program cropland. The CCP expands resource protection by increasing control of invasive plant and animal species such as common reed, alligatorweed, and nutria. The refuge will also prepare and begin to implement a Cultural Resources Management Plan. To enhance law enforcement, the refuge will add one full-time law enforcement officer dedicated solely to Mattamuskeet NWR.

To better support public use, the refuge will prepare and implement a Visitor Services' Plan. Existing hunts will continue and the refuge will explore how to increase youth hunting opportunities for deer and waterfowl and cooperate with North Carolina Wildlife Resources Commission to conduct activities promoting hunter recruitment and retention. Fishing opportunities will increase by adding one boat ramp to support an additional 5,000 angler visits annually. Nature Week will be re-instituted and the refuge will begin to host ten K-12 school programs annually. Interpretation opportunities will be expanded by adding kiosks, annually revised brochures, and interpretive signage along the wildlife drive and New Holland boardwalk trail. Opening and staffing the visitor contact station with volunteer(s) on weekends will also promote further interpretation. The refuge will reinstall an 8-mile canoe and kayak loop trail and construct one additional photo-blind. As under current management, the refuge will cooperate with partners to encourage commercial ecotours. Refuge management will also increase outreach.

Authority: This notice is published under the authority of the National Wildlife Refuge System Improvement Act of 1997, Public Law 105-57.

Dated: September 17, 2008.
Cynthia K. Dohner,
Acting Regional Director.

Editorial Note: This document was received in the Office of the Federal Register on December 24, 2008.

[FR Doc. E8-31120 Filed 12-30-08; 8:45 am]

BILLING CODE 4310-55-P